DEPARTMENT OF COMMERCE

National Oceanic and Atmospheric Administration

RIN 0648-XF485

Endangered Species; File No. 21111

AGENCY: National Marine Fisheries Service (NMFS), National Oceanic and Atmospheric Administration (NOAA), Commerce.

ACTION: Notice; receipt of application.

SUMMARY: Notice is hereby given that National Marine Fisheries Service (NMFS), Southwest Fisheries Science Center (SWFSC), 8901 La Jolla Shores Drive, La Jolla, CA 92037, [Responsible Party: Lisa Ballance, Ph.D.], has applied in due form for a permit to take leatherback sea turtles (Dermochelys coriacea) for purposes of scientific research.

DATES: Written, telefaxed, or email comments must be received on or before August 10, 2017.

ADDRESSES: The application and related documents are available for review by selecting “Records Open for Public Comment” from the “Features” box on the Applications and Permits for Protected Species (APPS) home page, https://apps.nmfs.noaa.gov, and then selecting File No. 21111 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The SWFSC proposes to continue long-term monitoring of leatherback sea turtles off the coasts of California, Oregon, and Washington. The purpose of the work is to determine abundance, distribution, size ranges, sex ratio, health status, diving behavior, local movements, habitat use, potential fishery impacts, and migratory routes for leatherbacks. Up to 70 sea turtles would be located annually through aerial surveys and subsequently approached from a research vessel or captured by hoop net. Upon approach or capture, researchers would examine, collect morphometric data and biological samples, and attach up to two transmitters to turtles before release. The permit would be valid for up to 10 years from the date of issuance.

Dated: July 6, 2017.
Catherine Marzin,
Acting Deputy Office Director, Office of Protected Resources, National Marine Fisheries Service.

[FR Doc. 2017-14504 Filed 7-10-17; 8:45 am]

BILLING CODE 3510-22-P